DEPARTMENT OF COMMERCE

International Trade Administration

[A-570-996, A-428-843, A-588-872, A-580-872, A-401-809, A-583-851, C-570-997, C-583-852]

Non-Oriented Electrical Steel From People's Republic of China, Germany, Japan, Republic of Korea, Sweden, and Taiwan: Continuation of Antidumping Duty and Countervailing Duty Orders

AGENCY: Enforcement and Compliance, International Trade Administration, Department of Commerce.

SUMMARY: As a result of the determinations by the Department of Commerce (Commerce) and the International Trade Commission (ITC) that revocation of the antidumping duty (AD) orders on non-oriented electrical steel (NOES) from People's Republic of China (China), Germany, Japan, Republic of Korea (Korea), Sweden, and Taiwan and revocation of the countervailing duty (CVD) orders on NOES from China and Taiwan would likely lead to a continuation or recurrence of dumping, countervailable subsidies, and material injury to an industry in the United States, Commerce is publishing a notice of continuation of these AD and CVD orders.

DATES: Applicable December 23, 2020.

FOR FURTHER INFORMATION CONTACT: Abdul Alnoor, Eva Kim, or Paola Aleman Ordaz, AD/CVD Operations, Office IV, Enforcement and Compliance, International Trade Administration, U.S. Department of Commerce, 1401 Constitution Avenue NW, Washington, DC 20230; telephone: (202) 482-4554, (202) 482-8283, or (202) 482-4031, respectively.

SUPPLEMENTARY INFORMATION:

Background

On December 3, 2014, Commerce published in the Federal Register the notice of the AD orders on NOES from China, Germany, Japan, Korea, Sweden, and Taiwan ¹ and the notice of the CVD orders on NOES from China and Taiwan.² On November 1, 2019, Commerce published the initiation of the first sunset reviews of the Orders, pursuant to section 751(c) of the Tariff Act of 1930, as amended (the Act).³ Commerce conducted these sunset reviews on an expedited basis, pursuant to section 751(c)(3)(B) of the Act and 19 CFR 351.218(e)(1)(ii)(C)(2), because we received a complete, timely, and adequate response from a domestic interested party but no substantive responses from respondent interested parties.⁴ As a result of Commerce's review, Commerce determined pursuant to sections 751(c)(1) and 752(c) of the Act, that revocation of the AD Orders would likely lead to a continuation or recurrence of dumping. Commerce also notified the ITC of the magnitude of the dumping margins likely to prevail should the AD Orders be revoked.⁵ Commerce also determined, pursuant to sections 751(c)(1) and 752(b) of the Act, that revocation of the CVD Orders on NOES from China and Taiwan would be likely to lead to the continuation or recurrence of countervailable subsidies and notified the ITC of the magnitude of the subsidy rates likely to prevail should the CVD Orders be revoked.⁶ On December 16, 2020, the ITC published notice of its determination, pursuant to section 751(c) of the Act, that revocation of the Orders would be likely to lead to continuation or recurrence of material injury to an industry in the United States within a reasonably foreseeable time.⁷

¹ See Non-Oriented Electrical Steel From the People's Republic of China, Germany, Japan, the Republic of Korea, Sweden, and Taiwan: Antidumping Duty Orders, 79 FR 71741 (December 3, 2014) (AD Orders).

² See Non-Oriented Electrical Steel From the People's Republic of China and Taiwan: Countervailing Duty Orders, 79 FR 71749 (December 3, 2014) (CVD Orders) (collectively, Orders).

³ See Initiation of Five-Year (Sunset) Reviews, 84 FR 58687 (November 1, 2019).

⁴ See Domestic Interested Party's Substantive Responses, “Five Year (`Sunset') Review of Antidumping Duty Order on Non-Oriented Electrical Steel From the People's Republic of China: Domestic Interested Party Substantive Response,” dated November 27, 2019; “Five Year (`Sunset') Review Of Antidumping Duty Order On Non-Oriented Electrical Steel From Germany: Domestic Interested Party Substantive Response,” dated November 27, 2019; “Five-Year (`Sunset') Review Of Antidumping Duty Order On Non-Oriented Electrical Steel From The Republic of Korea: Domestic Interested Party Substantive Response,” dated November 27, 2019; “Five-Year (`Sunset') Review Of Antidumping Duty Order On Non-Oriented Electrical Steel From Japan: Domestic Interested Party Substantive Response,” dated November 27, 2019; “Five Year (`Sunset') Review Of Antidumping Duty Order On Non-Oriented Electrical Steel From Sweden: Domestic Interested Party Substantive Response,” dated November 27, 2019; “Five Year (`Sunset') Review of Antidumping Duty Order on Non-Oriented Electrical Steel From Taiwan: Domestic Interested Party Substantive Response,” dated November 27, 2019.

⁵ See Non-Oriented Electrical Steel From People's Republic of China, Germany, Japan, Republic of Korea, Sweden, and Taiwan: Final Results of Expedited First Sunset Reviews of Antidumping Duty Orders, 85 FR 11337 (February 27, 2020) (Final Results).

⁶ See Non-Oriented Electrical Steel From the People's Republic of China: Final Results of the Expedited First Sunset Review of the Countervailing Duty Order, 85 FR 11339 (February 27, 2020); Non-Oriented Electrical Steel From Taiwan: Final Results of the Expedited Five-Year Sunset Review of the Countervailing Duty Order, 85 FR 13135 (March 6, 2020).

⁷ See Non-Oriented Electrical Steel from China, Germany, Japan, Korea, Sweden, and Taiwan, (Investigation Nos. 701-TA-506 and 508 and 731-TA-1238-1243), 85 FR 81486, (December 16, 2020).

Scope of the Orders

The merchandise subject to the Orders consists of non-oriented electrical steel (NOES), which includes cold-rolled, flat-rolled, alloy steel products, whether or not in coils, regardless of width, having an actual thickness of 0.20 mm or more, in which the core loss is substantially equal in any direction of magnetization in the plane of the material. The term “substantially equal” means that the cross-grain direction of core loss is no more than 1.5 times the straight grain direction (i.e., the rolling direction) of core loss. NOES has a magnetic permeability that does not exceed 1.65 Tesla when tested at a field of 800 A/m (equivalent to 10 Oersteds) along (i.e., parallel to) the rolling direction of the sheet (i.e., B800 value). NOES contains by weight more than 1.00 percent of silicon but less than 3.5 percent of silicon, not more than 0.08 percent of carbon, and not more than 1.5 percent of aluminum. NOES has a surface oxide coating, to which an insulation coating may be applied.

NOES is subject to the Orders whether it is fully processed (i.e., fully annealed to develop final magnetic properties) or semi-processed (i.e., finished to final thickness and physical form but not fully annealed to develop final magnetic properties). Fully processed NOES is typically made to the requirements of ASTM specification A 677, Japanese Industrial Standards (JIS) specification C 2552, and/or International Electrotechnical Commission (IEC) specification 60404-8-4. Semi-processed NOES is typically made to the requirements of ASTM specification A 683. However, the scope of the Orders is not limited to merchandise meeting the ASTM, JIS, and IEC specifications noted immediately above.

NOES is sometimes referred to as cold-rolled non-oriented (CRNO), non-grain oriented (NGO), non-oriented (NO), or cold-rolled non-grain oriented (CRNGO) electrical steel. These terms are interchangeable.

Excluded from the scope of the Orders are flat-rolled products not in coils that, prior to importation into the United States, have been cut to a shape and undergone all punching, coating, or other operations necessary for classification in Chapter 85 of the Harmonized Tariff Schedule of the United States (HTSUS) as a part (i.e., lamination) for use in a device such as a motor, generator, or transformer.

The subject merchandise is provided for in subheadings 7225.19.0000, 7226.19.1000, and 7226.19.9000 of the HTSUS. Subject merchandise may also be entered under subheadings 7225.50.8085, 7225.99.0090, 7226.92.5000, 7226.92.7050, 7226.92.8050, 7226.99.0180 of the HTSUS. Although HTSUS subheadings are provided for convenience and customs purposes, the written description of the scope is dispositive.

Continuation of the Orders

As a result of the determinations by Commerce and the ITC that revocation of the Orders would likely lead to a continuation or recurrence of dumping, countervailable subsidies, and material injury to an industry in the United States, pursuant to section 751(d)(2) of the Act and 19 CFR 351.218(a), Commerce hereby orders the continuation of the Orders. U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next sunset review of the Orders not later than 30 days prior to the fifth anniversary of the effective date of continuation.

Notification to Interested Parties

These five-year sunset reviews and this notice are in accordance with section 751(c) and of the Act and published pursuant to section 777(i)(1) of the Act and 19 CFR 351.218(f)(4).

Dated: December 17, 2020.
Jeffrey I. Kessler,
Assistant Secretary for Enforcement and Compliance.

[FR Doc. 2020-28403 Filed 12-22-20; 8:45 am]

BILLING CODE 3510-DS-P